DEPARTMENT OF THE INTERIOR

National Park Service

Announcement of Subsistence Resource Commission Meeting

AGENCY: National Park Service, Interior.

ACTION: Announcement of Subsistence Resource Commission meeting.

SUMMARY: The Superintendent of Wrangell-St. Elias National Park and the Chairperson of the Subsistence Resource Commission announce a forthcoming meeting of the Wrangell-St. Elias National Park Subsistence Resource Commission. The following agenda items will be discussed:

(1) Call to Order (Chairman).

(2) Roll Call: Confirmation of Quorum.

(3) Introduction of Commission members, staff, and guests.

(4) Review Agenda.

(5) Review and approval of minutes from November 3-4, 2000 meeting.

(6) Superintendent's welcome and review of the Commission purpose.

(7) Commission membership status.

(8) Election of Chair and Vice Chair.

(9) Public and other agency comments.

(10) Superintendent's report.

(11) Old Business:

a. Proposal to change Unit 11 sheep regulations.

b. Subsistence Hunting Program Recommendation 97-01: establish minimum residency requirement for resident zone communities.

c. SRC Chairs Customary Trade concerns.

d. Status of Malaspina Forelands ATV study project.

e. Alternate SRC members.

(12) Wrangell-St. Elias National Park and Preserve staff report

a. Wildlife report.

b. Fisheries report.

(13) New Business:

a. Update on Federal Fish Management and Resource Monitoring.

b. Review of 2001-2002 Federal Subsistence Board Wildlife proposals.

(14) Public and other agency comments.

(15) Subsistence Resource Commission work session to develop proposals/finalize recommendations.

(16) Set time and place of next Subsistence Resource Commission meeting.

(17) Adjourn meeting.

DATES: The meeting will begin at 9 a.m. on Tuesday, February 20, 2001, and conclude at approximately 5 p.m. The meeting will reconvene at 9 a.m. on Wednesday, February 21, 2001, and adjourn at approximately 5 p.m. The meeting will adjourn earlier if the agenda items are completed.

Location: Gulkana Community Hall, Gulkana, Alaska.

FOR FURTHER INFORMATION CONTACT: Devi Sharp, Resource Management Specialist, Wrangell-St. Elias National Park and Preserve, P.O. Box 439, Copper Center, Alaska 99573. Phone (907) 822-5234.

SUPPLEMENTARY INFORMATION: The Subsistence Resource Commission is authorized under Title VIII, Section 808, of the Alaska National Interest Lands Conservation Act, Pub. L. 96-487, and operates in accordance with the provisions of the Federal Advisory Committees Act.

Paul Anderson,
Deputy Regional Director.

[FR Doc. 01-3352 Filed 2-8-01; 8:45 am]

BILLING CODE 4310-70-P